DEPARTMENT OF LABOR

Employment and Training Administration

[TA-W-41,967]

Trego Industries, Inc., Red Oak, TX; Notice of Revised Determination on Reconsideration

By letter postmarked November 13, 2002, a petitioner requested administrative reconsideration regarding the Department's Negative Determination Regarding Eligibility to Apply for Worker Adjustment Assistance, applicable to the workers of the subject firm.

The initial investigation resulted in a negative determination issued on October 11, 2002, based on the finding that imports of commercial door products did not contribute importantly to worker separations at the Red Oak plant. The denial notice was published in the Federal Register on November 5, 2002 (67 FR 67421).

To support the request for reconsideration, the petitioner supplied additional information to supplement that which was gathered during the initial investigation. Upon further review and contact with the major declining customer, it was revealed that this customer increased its imports of like or directly competitive products in the relevant period.

Conclusion

After careful review of the additional facts obtained on reconsideration, I conclude that increased imports of articles like or directly competitive with those produced at Trego Industries, Inc., Red Oak, Texas, contributed importantly to the declines in sales or production and to the total or partial separation of workers at the subject firm. In accordance with the provisions of the Act, I make the following certification:

All workers of Trego Industries, Inc., Red Oak, Texas, who became totally or partially separated from employment on or after August 2, 2001 through two years from the date of this certification, are eligible to apply for adjustment assistance under Section 223 of the Trade Act of 1974.

Signed in Washington, DC, this 18th day of March 2003.
Edward A. Tomchick,
Director, Division of Trade Adjustment Assistance.

[FR Doc. 03-8849 Filed 4-9-03; 8:45 am]

BILLING CODE 4510-30-P